DEPARTMENT OF DEFENSE

Department of the Navy

32 CFR Part 700

[USN-2007-0050]

RIN 0703-AA84

Fraternization and Sexual Harassment

AGENCY: Department of Navy, DoD.

ACTION: Final rule.

SUMMARY: The Department of the Navy is amending its rules to remove existing sections relating to Fraternization and Sexual Harassment among naval personnel. These rules relate solely to internal personnel matters. Therefore, it has been determined that these rules are not required to be published in the Code of Federal Regulations.

DATES: Effective Date: This rule is effective March 7, 2008.

FOR FURTHER INFORMATION CONTACT: LT Tanya Cruz, JAGC, U.S. Navy, Legislation and Regulations Branch, Administrative Law Division, (Code 13), Office of the Judge Advocate General, Department of the Navy, 1322 Patterson Ave., SE., Suite 3000, Washington Navy Yard, DC 20374-5066, telephone: 703-604-8200.

SUPPLEMENTARY INFORMATION: On September 14, 1990, the Secretary of the Navy issued, revised, and amended the Navy Regulations in accordance with 10 U.S.C. Section 6011. In 1993, the Secretary of the Navy amended two articles of the Navy Regulations relating to Fraternization and Sexual Harassment among naval personnel. The 1993 amendment was not reflected in the Federal Register publication of the Navy Regulations, 64 FR 56061 dated October 15, 1999. The Department of the Navy seeks to remove these two sections from the Code of Federal Regulations. In accordance with 5 U.S.C. Section 552, it has been determined that these rules are not required to be published as they relate solely to internal personnel matters. The Navy Regulations articles on Fraternization and Sexual Harassment remain in effect and may be accessed at the Department of the Navy Directives Web site at http://neds.daps.dla.mil//.

List of Subjects in 32 CFR Part 700

Military personnel, Organization and functions (Government agencies), Reporting and recordkeeping requirements.

For the reasons set forth in the preamble, the Department of the Navy hereby amends 32 CFR part 700 as follows:

PART 700—UNITED STATES NAVY REGULATIONS AND OFFICIAL RECORDS

1. The authority citation for 32 CFR part 700 continues to read as follows:

Authority: 10 U.S.C. 6011.

§§ 700.1165 and 700.1166 [Removed]

2. Remove §§ 700.1165 and 700.1166.

Dated: February 28, 2008.
T.M. Cruz,
Lieutenant, Judge Advocate General's Corps, U.S. Navy, Federal Register Liaison Officer.

[FR Doc. E8-4210 Filed 3-6-08; 8:45 am]

BILLING CODE 3810-FF-P